DEPARTMENT OF DEFENSE

Department of the Air Force

32 CFR Part 989

Environmental Impact Analysis Process (EIAP); Correction

AGENCY: Department of the Air Force, DoD.

ACTION: Final rule; technical corrections.

SUMMARY: This document contains technical correction amendments to the Air Force EIAP regulation codified at 32 CFR Part 989. The rule relates to the Air Force process for compliance with the National Environmental Policy Act (NEPA) and Executive Order (E.O.) 12114, Environmental Effects Abroad of Major Federal Actions.

DATES: Effective Date: June 20, 2014.

FOR FURTHER INFORMATION CONTACT: Mr. Jack Bush (HQ USAF/A7CI), 1260 Air Force Pentagon, Washington, DC 20330-1260, (703) 614-0237.

SUPPLEMENTARY INFORMATION: The final rule that is the subject of these corrections administratively changes responsibilities of the Deputy Assistant Secretary of the Air Force for Environment, Safety and Occupational Health to the Deputy Assistant Secretary of the Air Force for Installations. This document contains administrative documentation of internal realignment and redistribution of responsibilities within the organization of the Office of the Assistant Secretary of the Air Force for Installations and Energy (SAF/IE) that pertain to official functions codified in this Part. The functions themselves remain unchanged and continue to be performed by principals within SAF/IE.

Administrative Procedure Act

The Air Force has determined that the Administrative Procedure Act, 5 U.S.C. 553, does not require notice of proposed rulemaking and an opportunity for public participation in connection with these corrections. In this regard, the Air Force notes that such notice and opportunity for comment is unnecessary because these corrections are related solely to agency organization, procedure and practice and make technical corrections. Accordingly, the Air Force finds good cause to make these corrections effective immediately upon publication in the Federal Register. 5 U.S.C. 553(b)(B), 553(d)(3).

List of Subjects in 32 CFR Part 989

Environmental assessments, Environmental impact statements, Reporting and recordkeeping requirements.

Accordingly, 32 CFR Part 989 is corrected by making the following amendments:

PART 989—ENVIRONMENTAL IMPACT ANALYSIS PROCESS (EIAP)

1. The authority citation for part 989 continues to read as follows:

Authority: 10 U.S.C. 8013.

2. In § 989.3, revise the introductory text of paragraph (a)(1) to read as follows:

§ 989.3 Responsibilities.

(a) * * *

(1) The Deputy Assistant Secretary of the Air Force for Installations (SAF/IEI).

* * * * *

3. In § 989.4, paragraph (h), revise the second sentence to read as follows:

§ 989.4 Initial considerations.

* * * * *

(h) * * * Formal arrangements with foreign governments concerning environmental matters and communications with foreign governments concerning environmental agreements will be coordinated with the Department of State by the Deputy Assistant Secretary of the Air Force for Installations (SAF/IEI) through the Deputy Under Secretary of Defense (Installations & Environment). * * *

4. In § 989.5, revise paragraph (d) to read as follows:

§ 989.5 Organizational relationships.

* * * * *

(d) To ensure timely initiation of the EIAP, SAF/AQ forwards information copies of all Mission Need Statements and System Operational Requirements Documents to SAF/IEI, HQ USAF/A7CI (or NGB/A7CV), the Air Force Medical Operations Agency, Aerospace Medicine Office (AFMOA/SG), and the affected MAJCOM EPFs.

* * * * *

5. In § 989.14, revise paragraph (h) to read as follows:

§ 989.14 Environmental assessment.

* * * * *

(h) EAs and accompanying FONSIs that require the Air Force to make Clean Air Act General Conformity Determinations shall be submitted (five hard copies and an electronic version) through the MAJCOM EPF to HQ USAF/A7CI for SAF/IEE coordination. SAF/IEE signs all General Conformity Determinations; SAF/IEI will sign the companion FONSIs after coordination with SAF/IEE, when requested by the MAJCOM (see § 989.30).

* * * * *

6. In § 989.19, paragraph (c)(2), revise the last sentence to read as follows:

§ 989.19 Draft EIS.

* * * * *

(c) * * *

(2) * * * Submit requests to deviate from procedures in appendix C to this part to HQ USAF/A7CI for SAF/IEI approval.

* * * * *

7. In § 989.20, paragraph (a), revise the first sentence to read as follows:

§ 989.20 Final EIS.

* * * * *

(a) If changes in the draft EIS are minor or limited to factual corrections and responses to comments, the proponent and EPF may, with the prior approval of HQ USAF/A7CI and SAF/IEI, prepare a document containing only comments on the Draft EIS, Air Force responses, and errata sheets of changes staffed to the HQ USAF ESOHC for coordination. * * *

* * * * *

8. In § 989.21, revise the first sentence of paragraph (a) to read as follows:

§ 989.21 Record of decision (ROD).

(a) The proponent and the EPF prepare a draft ROD, formally staff it through the MAJCOM EPC, to HQ USAF/A7CI for verification of adequacy, and forwards it to either SAF/IEI or SAF/AQR, as the case may be, for approval and designation of the signator. * * *

* * * * *

9. § 989.26, revise paragraph (f) to read as follows:

§ 989.26 Classified actions (40 CFR 1507.3(c)).

* * * * *

(f) Whenever a proponent believes that EIAP documents should be kept classified, the EPF must make a report of the matter to SAF/IEI, including proposed modifications of the normal EIAP to protect classified information. The EPF may make such submissions at whatever level of security classification is needed to provide a comprehensive understanding of the issues. SAF/IEI, with support from SAF/GC and other staff elements as necessary, makes final decisions on EIAP procedures for classified actions.

10. In § 989.34, revise the last sentence of paragraph (a), and the third sentence of paragraph (b), to read as follows:

§ 989.34 Special and emergency procedures.

(a) * * * EPFs must forward all requests for procedural deviations to HQ USAF/A7CI (or ANGRC/CEV) for review and approval by SAF/IEI.

(b) * * * If possible, promptly notify HQ USAF/A7CI, for SAF/IEI coordination and CEQ consultation. * * *

11. In § 989.36, revise the first sentence to read as follows:

§ 989.36 [Corrected]

In order to deal with unusual circumstances and to allow growth in the EIAP process, SAF/IEI may grant waivers to those procedures contained in this part not required by NEPA or the CEQ Regulations. * * *

12. In Appendix A to Part 989, add a new entry for “SAF/IEI” to the “Abbreviations and Acronyms” table in alphabetical order to read as follows:

Appendix A to Part 989—Glossary of References, Abbreviations, Acronyms, and Terms

* * * * *

Abbreviation or acronym | Definition
* * * * * * *
SAF/IEI | Deputy Assistant Secretary of the Air Force for Installations.
* * * * * * *

* * * * *

Henry Williams, DAF,
Acting Air Force Federal Register Liaison Officer.

[FR Doc. 2014-14431 Filed 6-19-14; 8:45 am]

BILLING CODE 5001-10-P